DEPARTMENT OF DEFENSE

Office of the Secretary

[Transmittal No. 24-105]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-105 and Policy Justification.

Dated: December 10, 2025.
Stephanie J. Bost,
Alternate OSD Federal Register Liaison Officer, Department of Defense.

BILLING CODE 6001-FR-P

BILLING CODE 6001-FR-C

Transmittal No. 24-105

Notice of Proposed Issuance of Letter of Offer Pursuant to Section 36(b)(1) of the Arms Export Control Act, as amended

(i) Prospective Purchaser: Government of Switzerland

(ii) Total Estimated Value:

Major Defense Equipment * | $ 0
Other | $450 million
TOTAL | $450 million

(iii) Description and Quantity or Quantities of Articles or Services under Consideration for Purchase: The Government of Switzerland has requested to buy sustainment support for its five (5) PATRIOT Fire Units and missile inventory.

Major Defense Equipment (MDE):

None

Non-Major Defense Equipment:

The following non-MDE items will be included: general electronic test station equipment and program sets; Foreign Liaison Officer support; international engineering services; Field Surveillance Program; modification and upgrade kits; unclassified and classified repair and return; classified missile processing; unclassified and classified spares; transportation; publications and technical documentation; training; United States (U.S.) Government and contractor technical, engineering, and logistics support services; and other related elements of logistics and program support.

(iv) Military Department: Army (SZ-B-UAV)

(v) Prior Related Cases, if any: SZ-B-UAS

(vi) Sales Commission, Fee, etc., Paid, Offered, or Agreed to be Paid: None

(vii) Sensitivity of Technology Contained in the Defense Article or Defense Services Proposed to be Sold: None

(viii) Date Report Delivered to Congress: October 28, 2024

* as defined in Section 47(6) of the Arms Export Control Act.

POLICY JUSTIFICATION

Switzerland—PATRIOT Sustainment

The Government of Switzerland has requested to buy sustainment support for its five (5) PATRIOT Fire Units and missile inventory. The following non-MDE items will be included: general electronic test station equipment and program sets; Foreign Liaison Officer support; international engineering services; Field Surveillance Program; modification and upgrade kits; unclassified and classified repair and return; classified missile processing; unclassified and classified spares; transportation; publications and technical documentation; training; U.S. Government and contractor technical, engineering, and logistics support services; and other related elements of logistics and program support. The total estimated cost is $450 million.

This proposed sale will support the foreign policy and national security objectives of the U.S. by helping to improve the security of a friendly European nation that continues to be an important force for political stability and economic progress within Europe.

The proposed sale supports Switzerland's goal of maintaining national and territorial defense as well as interoperability with U.S. and other European forces. Switzerland will have no difficulty absorbing this equipment and services into its armed forces.

The proposed sale of this equipment and support will not alter the basic military balance in the region.

The prime contractors will be RTX Corporation, located in Tewksbury, MA; Lockheed Martin, located in Dallas, TX; and Leidos, located in Huntsville, AL. The purchaser typically requests offsets. Any offset agreement will be defined in negotiations between the purchaser and the contractor.

Implementation of this proposed sale will require no U.S. Government representatives but will require approximately ten contractor representatives to travel to Switzerland for an extended period of time to provide technical support.

There will be no adverse impact on U.S. defense readiness as a result of this proposed sale.

[FR Doc. 2025-22720 Filed 12-12-25; 8:45 am]

BILLING CODE 6001-FR-P